NUCLEAR REGULATORY COMMISSION

10 CFR Part 72

RIN 3150-AG58

List of Approved Spent Fuel Storage Casks: HI-STAR 100 Revision; Confirmation of Effective Date

AGENCY: Nuclear Regulatory Commission.

ACTION: Direct final rule; confirmation of effective date.

SUMMARY: The Nuclear Regulatory Commission (NRC) is confirming the effective date of December 26, 2000, for the direct final rule that appeared in the Federal Register of October 11, 2000 (65 FR 60339). This direct final rule amended the NRC's regulations on the HI-STAR 100 cask system in seven areas and includes changes to the Certificate of Compliance and Technical Specifications. The seven areas involve: revision of the existing fuel specification tables; addition of pressurized water reactor Burnable Poison Rod Assemblies and Thimble Plug Devices; addition of two new classes of fuel to the fuel specification tables; addition of a new damaged fuel container; addition of thoria rods in canisters; addition of antimony-beryllium neutron sources [i.e., reactor startup sources], and clarifications, editorial corrections, and other minor changes to cask design information and drawings. In addition, the amendment includes two minor changes to HI-STAR 100 listing in the regulations. This document confirms the effective date.

DATES: The effective date of December 26, 2000 is confirmed for this direct final rule.

ADDRESSES: Documents related to this rulemaking, including comments received, may be examined at the NRC Public Document Room, 11555 Rockville Pike, Rockville, MD. These same documents may also be viewed and downloaded electronically via the rulemaking website (http://ruleforum.llnl.gov). For information about the interactive rulemaking website, contact Ms. Carol Gallagher (301) 415-5905; e-mail CAG@nrc.gov.

FOR FURTHER INFORMATION CONTACT: Gordon Gundersen, Office of Nuclear Material Safety and Safeguards, U.S. Nuclear Regulatory Commission, Washington, DC 20555. Telephone (301) 415-6195 (E-mail: GEG1@nrc.gov).

SUPPLEMENTARY INFORMATION: On October 11, 2000 (65 FR 60339), the NRC published in the Federal Register a direct final rule amending its regulations in 10 CFR 72 on the HI-STAR 100 cask system in seven areas and includes changes to the Certificate of Compliance and Technical Specifications. The seven areas involve: revision of the existing fuel specification tables; addition of pressurized water reactor Burnable Poison Rod Assemblies and Thimble Plug Devices; addition of two new classes of fuel to the fuel specification tables; addition of a new damaged fuel container; addition of thoria rods in canisters; addition of antimony-beryllium neutron sources [i.e., reactor startup sources], and clarifications, editorial corrections, and other minor changes to cask design information and drawings. In addition, the amendment includes two minor changes to HI-STAR 100 listing in the regulations. In the direct final rule, NRC stated that if no significant adverse comments were received, the direct final rule would become final on the date noted above. The NRC did not receive any comments on the direct final rule. Therefore, this rule will become effective as scheduled.

Dated at Rockville, Maryland, this 3rd day of January, 2001.
For the Nuclear Regulatory Commission.
Michael Lesar,
Acting Chief, Rules and Directives Branch, Division of Administrative Services, Office of Administration.

[FR Doc. 01-599 Filed 1-8-01; 8:45 am]

BILLING CODE 7590-01-P